DEPARTMENT OF DEFENSE

Department of the Navy

DEPARTMENT OF THE INTERIOR

Bureau of Reclamation

Notice of Intent To Prepare an Environmental Impact Statement/Environmental Impact Report for the Santa Margarita River Conjunctive Use Project, San Diego County, CA

AGENCIES: Department of the Navy, DOD. Bureau of Reclamation, DOI.

ACTION: Notice.

SUMMARY: Pursuant to Section (102)(2)(c) of the National Environmental Policy Act (NEPA) of 1969 (42 U.S.C. 4332 (2) (c)), as implemented by the Council on Environmental Quality Regulations (40 CFR parts 1500-1508), and the California Environmental Quality Act (CEQA) (PRC 21000 et seq.), as implemented by the California State CEQA Guidelines (14 CCR 15000-15387), the Department of the Navy, Marine Corps Base Camp Pendleton (MCB Camp Pendleton); the Bureau of Reclamation (Reclamation); and the Fallbrook Public Utility District (Fallbrook) intend to prepare an environmental impact statement/environmental impact report (EIS/EIR) and conduct associated public scoping meetings for the proposed Santa Margarita River Conjunctive Use Project. Three public meetings will be held to collect scoping comments. The public and agencies are invited to attend and provide comments.

DATES: All written comments must be received by January 31, 2005. Public meeting dates are as follows:

1. January 12, 2005, 6 p.m. to 8 p.m., Oceanside, CA.

2. January 13, 2005, 6 p.m. to 8 p.m., Fallbrook, CA.

ADDRESSES: Written comments or requests for inclusion on the EIS/EIR mailing list may be submitted to: Bureau of Reclamation, Southern California Area Office, Attn: Bill Rohwer, 27708 Jefferson Ave, Suite 202, Temecula, CA 92590.

Public meeting locations are as follows:

1. Oceanside—Oceanside Civic Center Library and Community Rooms, 330 North Coast Hwy, Oceanside, CA.

2. Fallbrook—Fallbrook Public Utility District, 990 East Mission Rd, Fallbrook, CA.

FOR FURTHER INFORMATION CONTACT: Bureau of Reclamation, Mr. Bill Rohwer, telephone 951-695-5310, fax 951-695-5319, or e-mail: wrohwer@lc.usbr.gov. Please submit requests for sign language interpretation for the hearing impaired or for other auxiliary aids at the public meetings to Mr. Rohwer by January 5, 2005.

SUPPLEMENTARY INFORMATION: The proposed conjunctive use project would be located in the lower Santa Margarita River basin on MCB Camp Pendleton, San Diego County, California. The project would upgrade an existing groundwater recharge and recovery system currently producing 7,000 acre-feet of water per year. Studies suggest that this yield could be increased to as much as 16,200 acre-feet per year. The project would improve existing diversion and percolation facilities and install new wells, an advanced potable water treatment plant, pump stations and a pipeline to Fallbrook. Potential options could involve in-stream water retention structures, reclaimed wastewater, off-stream storage, and recharge of other groundwater basins on MCB Camp Pendleton.

The purpose of the proposed project is to help meet water demands for MCB Camp Pendleton and Fallbrook, reduce regional dependency on imported water, and improve water reliability by increasing the yield of the lower Santa Margarita River basin and perfecting water rights permits that were assigned to Reclamation in 1974 pursuant to State Water Resources Control Board Order WR 73-50.

Reclamation currently holds three state-approved permits to divert and store water from the Santa Margarita River. The proposed conjunctive use project would enable permits 15000, 11357, and 8511 to be perfected, and could facilitate settlement of United States v. Fallbrook Public Utility District, et al. (No. 1247-SD-C), filed in 1951.

The permits were originally issued to Fallbrook and MCB Camp Pendleton. In 1968, Fallbrook, the U.S. Attorney General, the Secretary of the Navy, and the Secretary of the Interior signed a Memorandum of Understanding and Agreement to negotiate a physical solution predicated on the construction of a two-dam project on the Santa Margarita River. Fallbrook and MCB Camp Pendleton subsequently assigned the permits to Reclamation, which had been authorized to prepare feasibility studies for the project (Sec. 3, Pub. L. 89-561).

Reclamation completed a Feasibility Report in 1971 and a Final EIS in 1976 for a two-dam project to impound, conserve, and deliver the natural flows of the Santa Margarita River, as well as imported waters, to MCB Camp Pendleton and Fallbrook. Reclamation prepared a supplemental EIS for the project in 1984. However, Congress did not approve the project's funding. A subsequent effort to design a smaller, single dam project was also unsuccessful.

A 1994 study, with additional reports in 2001 and 2002, concluded that a groundwater recharge and extraction project (i.e., conjunctive use) may result in an annual yield comparable to that of the two-dam project, at a lower cost and with fewer adverse environmental effects.

The conference report for the 2003 Omnibus Appropriations Act (Pub. L. 108-7) directed Reclamation, under the Santa Margarita feasibility authorization, to perform the studies needed to address current and future municipal, domestic, military, environmental, and other water uses from the Santa Margarita River. The 2004 Energy and Water Appropriations Act (Pub. L. 108-137) provided funding for Reclamation to study the feasibility of the Santa Margarita Conjunctive Use Project.

Through previous investigations, several areas of potential impact have been identified that apply to this proposed conjunctive use project. Potential impacts identified to date include, but are not be limited to, the following areas: Water quality/quantity (surface and groundwater), water rights, water reuse, fish passage, endangered species, estuarine habitat, riparian/wetland habitat, and sediment transport.

MCB Camp Pendleton, Reclamation, and Fallbrook have scheduled public meetings to describe the proposed project and obtain public input on the range of issues that should be studied in order to evaluate potential impacts of the proposed project. Each meeting will begin with a formal presentation about the proposed project from 6 p.m. to 6:30 p.m. followed by an informal open house from 6:30 p.m. to 8 p.m.

These meetings will assist the agencies in identifying additional alternatives or options to meet the stated purpose of the conjunctive use project and to assist in determining issues that will be analyzed in the EIS/EIR.

In response to issues developed during scoping, other alternative means of meeting the project's purpose will be explored and analyzed in the EIS/EIR, if found to be reasonable. Federal, state and local agencies, tribes, and the general public are invited to participate in the environmental review process.

Comments, including names and home addresses of respondents, will be made available for public review. Individual respondents may request their home address be withheld from public disclosure. Circumstances may exist in which we would withhold a respondent's identity from public disclosure, as allowable by law. Please prominently state at the beginning of your comment if you wish your name and/or address withheld from public disclosure. We will make all submissions from organizations or businesses, and from individuals identifying themselves as representatives or officials of organizations or businesses, available for public disclosure in their entirety. Please note, unidentified comments will not be considered.

Dated: October 27, 2004.
J.H. Wagshul,
Commander, Judge Advocate General's Corps, U.S. Navy, Federal Register Liaison Officer.
Dated: October 27, 2004.
Robert W. Johnson,
Regional Director, Department of the Interior, Bureau of Reclamation, Lower Colorado Region.

[FR Doc. 04-24335 Filed 10-29-04; 8:45 am]

BILLING CODE 3810-FF-P